DEPARTMENT OF THE INTERIOR

National Park Service

[NPS-WASO-WM-PSB-NPS0028321; PPWOWMADH2, PPMPSAS1Y.YH0000 (200); OMB Control Number 1024-0282]

Agency Information Collection Activities; Submission to the Office of Management and Budget for Review and Approval; National Park Service Background Clearance Initiation Request

AGENCY: National Park Service, Interior.

ACTION: Notice of information collection; request for comment.

SUMMARY: In accordance with the Paperwork Reduction Act of 1995, we, the National Park Service (NPS) are proposing to renew an information collection.

DATES: Interested persons are invited to submit comments on or before March 2, 2020.

ADDRESSES: Send written comments on this information collection request (ICR) to the Office of Management and Budget's (OMB) Desk Officer for the Department of the Interior by email at OIRA_Submission@omb.eop.gov; or by facsimile at 202-395-5806. Please provide a copy of your comments to Phadrea Ponds, Acting Information Collection Clearance Officer, National Park Service, 1201 Oakridge Drive, Fort Collins, CO 80525; or by email at phadrea_ponds@nps.gov. Please reference OMB Control Number 1024-0282 in the subject line of your comments.

FOR FURTHER INFORMATION CONTACT: To request additional information about this ICR by mail contact Shean Rheams, Chief, Personnel Security & Identity Management Group, National Park Service, 1849 C Street NW, Washington, DC 20240; or by email at shean_rheames@nps.gov; or by telephone at 202-354-1974. Please reference OMB Control Number 1024-0282 in the subject line of your comments. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

On October 4, 2019, we published a Federal Register notice soliciting comments on this collection of information for 60 days, ending on December 3, 2019 (84 FR 53174). No public comments were received in response to this notice.

We are again soliciting comments on the proposed ICR that is described below. We are especially interested in public comment addressing the following issues: (1) Is the collection necessary to the proper functions of the NPS; (2) will this information be processed and used in a timely manner; (3) is the estimate of burden accurate; (4) how might the NPS enhance the quality, utility, and clarity of the information to be collected; and (5) how might the NPS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: As delegated by the U.S. Office of Personnel Management (OPM), the NPS is authorized to request information to determine the suitability of applicants for Federal employment and non-Federal personnel (i.e., contractor, partners, etc.) who require access to NPS property and/or receive DOIAccess personal identity verification (PIV) badges. Suitability determinations are authorized under Executive Orders 10450, “Security requirements for Government employment” and 10577, “Amending the Civil Service Rules and authorizing a new appointment system for the competitive service.”

To conform with regulations mandated by OPM and the Department of the Interior (DOI), the NPS Personnel Security Branch utilizes the Electronic Questionnaires for Investigations Processing (e-QIP) System. Form 10-152, “Background Clearance Initiation Request” is used to create e-QIP accounts necessary to initiate background investigations for all individuals requiring access to NPS property or to receive a DOIAccess PIV badge.

Applicants for federal employment will complete form 10-152. This includes non-federal personnel, contractors and individuals not otherwise directly employed by the Federal Government—those who perform work for or on behalf of the Federal Government and will require access to NPS property and/or receive a DOIAccess PIV badge. The following information is collected from each proposed candidate requiring a background clearance:

(1) Full name

(2) Social Security number

(3) Date and place of birth

(4) Country of citizenship

(5) Contact phone number

(6) Email address

(7) Home address

(8) Whether proposed candidate has ever been investigated by another federal agency.

Title of Collection: National Park Service Background Clearance Initiation Request.

OMB Control Number: 1024-0282.

Form Number: NPS 10-152, “Background Clearance Initiation Request”.

Type of Review: Extension of a currently approved collection.

Description of Respondents: Candidates for federal employment, contractors, partners, and other non-federal candidates who require access to NPS property and/or a DOIAccess PIV badge.

Total Estimated Number of Annual Respondents: 6,500.

Total Estimated Number of Annual Responses: 6,500.

Estimated Completion Time per Response: 7 minutes.

Total Estimated Number of Annual Burden Hours: 758.

Respondent's Obligation: Mandatory.

Frequency of Collection: On occasion.

Total Estimated Annual Nonhour Burden Cost: None.

An agency may not conduct or sponsor and a person is not required to respond to a collection of information unless it displays a currently valid OMB control number.

The authority for this action is the Paperwork Reduction Act of 1995 (44 U.S.C. 3501 et seq.).

Phadrea Ponds,
Acting, Information Collection Clearance Officer, National Park Service.

[FR Doc. 2020-01677 Filed 1-29-20; 8:45 am]

BILLING CODE 4312-52-P